DEPARTMENT OF ENERGY

Federal Energy Regulatory Commission

Notice of Application for Amendment of License and Soliciting Comments, Motions to Intervene, and Protests

March 24, 2004.

Take notice that the following application has been filed with the Commission and is available for public inspection:

a. Type of Application: Non-project use of project lands.

b. Project No.: 2146-104.

c. Date Filed: February 12, 2004.

d. Applicant: Alabama Power Company.

e. Name of Project: Coosa River Project.

f. Location: The project is located on the Coosa River, in Elmore County, Alabama and Floyd County, Georgia.

g. Filed Pursuant to: Federal Power Act, 16 U.S.C. 791(a)-825(r).

h. Applicant Contact: Alan Peeples 600 N. 18th Street, P.O. Box 2641, Birmingham, AL 35291-8180, (205) 257-1401.

i. FERC Contact: Hillary Berlin at 202-502-8915.

j. Deadline for Filing Comments, Motions to Intervene and Protest: April 26, 2004.

The Commission's rules of practice and procedure require all interveners filing documents with the Commission to serve a copy of that document on each person in the official service list for the project. Further, if an intervener files comments or documents with the Commission relating to the merits of an issue that may affect the responsibilities of a particular resource agency, they must also serve a copy of the document on that resource agency.

k. Description of Application: The Alabama Power Company (applicant) is requesting authorization to allow the Shelby County Commission to withdraw up to 17.8 million gallons-per-day from the Lay Reservoir to meet municipal water supply demands. The proposal includes constructing two submerged ductile iron raw water mains, two air backwash mains, and two intake screens on Lay development project lands and waters. The applicant has consulted with the appropriate resource agencies, and their application includes a summary of the permits obtained for this proposal.

l. The filings are available for review at the Commission in the Public Reference Room or may be viewed on the Commission's Web site at http://www.ferc.gov using the (eLibrary( link. Enter the docket number excluding the last three digits in the docket number field to access the document. For assistance, call toll-free 1-866-208-3676 or e-mail FERCOnlineSupport@ferc.gov. For TTY, call (202) 502-8659. A copy is also available for inspection and reproduction at the addresses in item h.

m. Individuals desiring to be included on the Commission's mailing list should so indicate by writing to the Secretary of the Commission.

n. Comments, Protests, or Motions to Intervene—Anyone may submit comments, a protest, or a motion to intervene in accordance with the requirements of the rules of practice and procedure, 18 CFR 385.210, .211, .214. In determining the appropriate action to take, the Commission will consider all protests or other comments filed, but only those who file a motion to intervene in accordance with the Commission's rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. Any of the above-named documents must be filed by providing the original and the number of copies provided by the Commission's regulations to: the Secretary, Federal Energy Regulatory Commission, 888 First Street NE., Washington, DC 20426. A copy of any motion to intervene must also be served upon each representative of the Applicant specified in the particular application.

p. Agency Comments—Federal, State, and local agencies are invited to file comments on the described applications. A copy of the applications may be obtained by agencies directly from the Applicant. If an agency does not file comments within the time specified for filing comments, it will be presumed to have no comments. One copy of an agency's comments must also be sent to the Applicant's representatives.

Linda Mitry,
Acting Secretary.

[FR Doc. E4-710 Filed 3-30-04; 8:45 am]

BILLING CODE 6717-01-P